ENVIRONMENTAL PROTECTION AGENCY

40 CFR Part 52

[EPA-R05-OAR-2016-0759; FRL-9977-69—Region 5]

Air Plan Approval; Ohio; Regional Haze Plan and Prong 4 (Visibility) for the 2006 and 2012 PM2.5, 2010 NO2, 2010 SO2, and 2008 Ozone NAAQS

AGENCY: Environmental Protection Agency (EPA).

ACTION: Final rule.

SUMMARY: The Environmental Protection Agency (EPA) is taking the following five actions: Approving the portion of Ohio's November 30, 2016 State Implementation Plan (SIP) submittal seeking to change from reliance on the Clean Air Interstate Rule (CAIR) to reliance on Cross-State Air Pollution Rule (CSAPR) for certain regional haze requirements; converting EPA's limited approval/limited disapproval of Ohio's March 11, 2011 regional haze SIP to a full approval; withdrawing the Federal Implementation Plan (FIP) provisions that address the limited disapproval; approving the visibility prong of Ohio's infrastructure SIP submittals for the 2012 annual and 2006 24-hour fine particulate matter (PM2.5), 2010 nitrogen dioxide (NO2), and 2010 sulfur dioxide (SO2) National Ambient Air Quality Standards (NAAQS); and converting EPA's disapproval of the visibility portion of Ohio's infrastructure SIP submittal for the 2008 ozone NAAQS to an approval.

DATES: This final rule is effective on June 11, 2018.

ADDRESSES: EPA has established a docket for this action under Docket ID No. EPA-R05-OAR-2016-0759. All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays. We recommend that you telephone Michelle Becker, Life Scientist, at (312) 886-3901 before visiting the Region 5 office.

FOR FURTHER INFORMATION CONTACT: Michelle Becker, Life Scientist, Attainment Planning and Maintenance Section, Air Programs Branch (AR-18J), Environmental Protection Agency, Region 5, 77 West Jackson Boulevard, Chicago, Illinois 60604, (312) 886-3901, becker.michelle@epa.gov.

SUPPLEMENTARY INFORMATION: Throughout this document whenever “we,” “us,” or “our” is used, we mean EPA. This supplementary information section is arranged as follows:

I. Background

II. What action is EPA taking?

III. Statutory and Executive Order Reviews

I. Background

Ohio submitted infrastructure SIPs for the following NAAQS: 2006 24-hour PM2.5 (September 4, 2009); 2012 annual PM2.5 (December 4, 2015); 2010 NO2 (February 8 and 25, 2013); 2010 SO2 (June 7, 2013); and 2008 ozone (December 27, 2012), which relied on the State having a fully approved regional haze SIP to satisfy its prong 4 requirements. However, EPA had not fully approved Ohio's regional haze SIP, as the Agency issued a limited disapproval of the State's original regional haze plan on June 7, 2012, due to the plan's reliance on CAIR. To correct the deficiencies in its regional haze SIP and obtain approval of the aforementioned infrastructure SIPs that rely on the regional haze SIP, the State submitted a SIP revision on November 30, 2016, to replace reliance on CAIR with reliance on CSAPR.

Ohio has corrected the deficiencies that led to EPA's limited approval/limited disapproval of the State's regional haze SIP. Accordingly, EPA is approving the regional haze portion of the State's November 30, 2016 SIP revision and converting EPA's previous action on Ohio's regional haze SIP from a limited approval/limited disapproval to a full approval. Specifically, EPA finds that this portion of Ohio's November 30, 2016, SIP revision satisfies the SO2 and NOX BART requirements and SO2 reasonable progress requirements for EGUs formerly subject to CAIR. With the approval of Ohio's regional haze SIP revision, the State's SIP now provides for the measures needed to ensure that its emissions do not interfere with measures required to be included in other states' plans to protect visibility. Therefore, EPA is also approving the prong 4 portion of Ohio's 2006 24-hour PM2.5 submission, 2012 annual PM2.5 submission, 2010 NO2 submissions, and 2010 SO2 submission; as well as converting EPA's disapproval of the prong 4 portions of Ohio's 2008 ozone infrastructure submission to an approval. On September 29, 2017 (82 FR 45481), EPA published a final rule affirming the continued validity of the Agency's 2012 determination that participation in CSAPR meets the Regional Haze Rule's criteria for an alternative to the application of source specific BART. In line with this affirmation, EPA is approving Ohio's regional haze and prong 4 submissions described above.

On December 21, 2017 (82 FR 60572), EPA published a notice of proposed rulemaking (NPR) proposing approval of Ohio's November 30, 2016 SIP revision allowing for the full approval of Ohio's Regional Haze SIP, the removal of the Regional Haze FIP, and the approval of prong 4 elements.

The specific details of Ohio's November 30, 2016 SIP revision and the rationale for EPA's approval are discussed in the NPR and will not be restated here. EPA received three comments on the proposed action, none were relevant to the rulemaking.

II. What action is EPA taking?

EPA is taking the following actions: (1) Approving the portion of Ohio's November 30, 2016 SIP submittal seeking to change from reliance on CAIR to reliance on CSAPR for certain regional haze requirements; (2) converting EPA's limited approval/limited disapproval of Ohio's March 11, 2011 regional haze SIP to a full approval; (3) withdrawing the FIP provisions that address the limited disapproval; (4) approving the visibility prong of Ohio's infrastructure SIP submittals for the 2006 and 2012 PM2.5, 2010 NO2, and 2010 SO2 NAAQS; and (5) converting EPA's disapproval of the visibility portion of Ohio's infrastructure SIP submittal for the 2008 ozone NAAQS to an approval. EPA is also making some consistency and clarifying edits to Ohio's infrastructure SIP table in 40 CFR 52.1870 for submittals not affected by today's action.

III. Statutory and Executive Order Reviews

A. Executive Orders 12866 and 13563: Regulatory Planning and Review

This action is not a “significant regulatory action” under the terms of Executive Order 12866 (58 FR 51735, October 4, 1993) and is therefore not subject to review under Executive Orders 12866 and 13563 (76 FR 3821, January 21, 2011).

B. Executive Order 13771: Reducing Regulations and Controlling Regulatory Costs

This action is not an Executive Order 13771 regulatory action because this action is not significant under Executive Order 12866.

C. Paperwork Reduction Act

This action does not impose an information collection burden under the provisions of the Paperwork Reduction Act, 44 U.S.C. 3501 et seq.

D. Regulatory Flexibility Act (RFA)

I certify that this action will not have a significant economic impact on a substantial number of small entities under the RFA. This action will not impose any requirements on small entities.

E. Unfunded Mandates Reform Act (UMRA)

This action does not contain any unfunded mandate as described in UMRA, 2 U.S.C. 1531-1538, and does not significantly or uniquely affect small governments. This action does not impose additional requirements beyond those imposed by state law. Accordingly, no additional costs to State, local, or tribal governments, or to the private sector, will result from this action.

F. Executive Order 13132: Federalism

This action does not have federalism implications. It will not have substantial direct effects on the states, on the relationship between the national government and the states, or on the distribution of power and responsibilities among the various levels of government.

G. Executive Order 13175: Consultation and Coordination With Indian Tribal Governments

This action does not have tribal implications, as specified in Executive Order 13175. It will not have substantial direct effects on tribal governments. There are no Indian reservation lands in Ohio. Thus, Executive Order 13175 does not apply to this rule.

H. Executive Order 13045: Protection of Children From Environmental Health Risks and Safety Risks

EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety risk.

I. Executive Order 13211: Actions Concerning Regulations That Significantly Affect Energy Supply, Distribution, or Use

This action is not subject to Executive Order 13211 (66 FR 28355 (May 22, 2001)), because it is not a significant regulatory action under Executive Order 12866.

J. National Technology Transfer and Advancement Act

This rulemaking does not involve technical standards. Therefore, the EPA is not considering the use of any voluntary consensus standards.

K. Executive Order 12898: Federal Actions To Address Environmental Justice in Minority Populations and Low-Income Populations

EPA believes that this action does not have disproportionately high and adverse human health or environmental effects on minority populations, low-income populations, and/or indigenous peoples, as specified in Executive Order 12898 (59 FR 7629, February 16, 1994).

L. Determination Under Section 307(d)

Pursuant to CAA section 307(d)(1)(B), this action is subject to the requirements of CAA section 307(d), as it revises a FIP under CAA section 110(c).

M. Congressional Review Act (CRA)

This rule is exempt from the CRA because it is a rule of particular applicability.

N. Judicial Review

Under section 307(b)(1) of the CAA, petitions for judicial review of this action must be filed in the United States Court of Appeals for the appropriate circuit by July 9, 2018. Filing a petition for reconsideration by the Administrator of this final rule does not affect the finality of this action for the purposes of judicial review nor does it extend the time within which a petition for judicial review may be filed, and shall not postpone the effectiveness of such rule or action. This action may not be challenged later in proceedings to enforce its requirements. See CAA section 307(b)(2).

List of Subjects in 40 CFR Part 52

Environmental protection, Air pollution control, Incorporation by reference, Intergovernmental relations, Nitrogen dioxide, Particulate matter, Regional haze, Reporting and recordkeeping requirements, Sulfur oxides, Visibility, Volatile organic compounds.

Dated: April 30, 2018.
E. Scott Pruitt,
EPA Administrator.

40 CFR part 52 is amended as follows:

PART 52—APPROVAL AND PROMULGATION OF IMPLEMENTATION PLANS

1. The authority citation for part 52 continues to read as follows:

Authority: 42 U.S.C. 7401 et seq.

2. In § 52.1870, the table in paragraph (e) is amended by revising the entries under the headings “Infrastructure Requirements” and “Visibility Protection” to read as follows:

§ 52.1870 Identification of plan.

* * * * *

(e) * * *

EPA—Approved Ohio Nonregulatory and Quasi-Regulatory Provisions
Title | Applicable geographical or non-attainment area | State date | EPA approval | Comments
* * * * * * *
Infrastructure Requirements
Section 110(a)(2) infrastructure requirements for the 1997 8-hour ozone NAAQS | Statewide | 12/5/2007 | 7/13/2011, 76 FR 41075 | Fully approved for all CAA elements except 110(a)(2)(D)(I), which has been remedied with a FIP.
Section 110(a)(2) infrastructure requirements for the 1997 PM2.5 NAAQS | Statewide | 12/5/2007 | 7/13/2011, 76 FR 41075 | Fully approved for all CAA elements except 110(a)(2)(D)(I), which has been remedied with a FIP.
Section 110(a)(2) infrastructure requirements for the 2006 PM2.5 NAAQS | Statewide | 9/4/2009 | 5/10/2018, [Insert Federal Register citation] | Fully approved for all CAA elements except 110(a)(2)(D)(I), which has been disapproved and remedied with a FIP.
Section 110(a)(2) infrastructure requirements for the 2008 lead NAAQS | Statewide | 10/12/2011 | 10/6/2014, 79 FR 60075 | Fully approved for all CAA elements.
Section 110(a)(2) infrastructure requirements for the 2008 ozone NAAQS | Statewide | 12/27/2012 | 5/10/2018, [Insert Federal Register citation] | Fully approved for all CAA elements except 110(a)(2)(D)(I), which has been disapproved and remedied with a FIP.
Section 110(a)(2) infrastructure requirements for the 2010 NO2 NAAQS | Statewide | 2/8/2013 | 5/10/2018, [Insert Federal Register citation] | Fully approved for all CAA elements.
Section 110(a)(2) infrastructure requirements for the 2010 SO2 NAAQS | Statewide | 6/7/2013 | 5/10/2018, [Insert Federal Register citation] | No action has been taken on 110(a)(2)(D)(I). All other CAA elements have been approved.
Section 110(a)(2)(D) infrastructure requirements for the 2012 PM2.5 NAAQS | Statewide | 12/4/2015 | 5/10/2018, [Insert Federal Register citation] | Fully approved for all CAA elements.
* * * * * * *
Visibility Protection
Regional Haze Plan | Statewide | 11/30/2016 | 5/10/2018, [Insert Federal Register citation] | Full Approval.
Regional Haze Five-Year Progress Report | Statewide | 3/11/2016 | 12/21/2017, 82 FR 60543 |

§ 52.1886 [Removed and Reserved]

3. Section 52.1886 is removed and reserved.

[FR Doc. 2018-09651 Filed 5-9-18; 8:45 am]

BILLING CODE 6560-50-P